ENVIRONMENTAL PROTECTION AGENCY

40 CFR Part 52

[EPA-R09-OAR-2009-0359; FRL-8983-3]

Approval and Promulgation of Air Quality Implementation Plans; California; Monterey Bay Region 8-Hour Ozone Maintenance Plan

AGENCY: Environmental Protection Agency (EPA).

ACTION: Proposed rule.

SUMMARY: On December 19, 2007, the State of California submitted an 8-hour ozone maintenance plan for the Monterey Bay Unified Air Pollution Control District and requested that EPA approve the plan as a revision to the California State Implementation Plan (SIP). In this action, EPA is proposing to approve the maintenance plan. In the “Rules and Regulations” section of this Federal Register, EPA is approving the State's request for approval of the maintenance plan as a direct final rule without prior proposal because the Agency views the maintenance plan and SIP revision as non-controversial and anticipates no adverse comments. A detailed rationale for the approval is set forth in the direct final rule. If no adverse comments are received in response to this proposed rule, no further activity is contemplated in relation to this rule. If EPA receives adverse comments, the direct final rule will be withdrawn and all public comments received will be addressed in a subsequent final rule based on this proposed rule. EPA will not institute a second comment period. Any parties interested in commenting on this action should do so at this time.

DATES: Comments on this proposed rule must be received in writing by January 19, 2010.

ADDRESSES: Submit your comments, identified by [EPA-R09-OAR-2009-0359] by one of the following methods:

• Federal eRulemaking Portal: http://www.regulations.gov. Follow the online instructions for submitting comments.

• E-mail: Sarvy Mahdavi at mahdavi.sarvy@epa.gov. Please also send a copy by e-mail to the person listed in the FOR FURTHER INFORMATION CONTACT section below.

• Fax: Sarvy Mahdavi, Planning Office (AIR-2), at fax number (415) 947-3579.

• Mail or deliver: Sarvy Mahdavi, Air Planning Office, (AIR-2), U.S. Environmental Protection Agency, Region IX, 75 Hawthorne Street, San Francisco, California 94105-3901. Hand or courier deliveries are accepted only between the hours of 8 a.m. and 4 p.m. weekdays except for legal holidays. Special arrangements should be made for deliveries of boxed information.

Instructions: All comments will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Planning Office (AIR-2), U.S. Environmental Protection Agency, Region IX, 75 Hawthorne Street, San Francisco, California 94105-3901. To inspect the hard copy materials, please schedule an appointment during normal business hours with the contact listed in the FOR FURTHER INFORMATION CONTACT section.

FOR FURTHER INFORMATION CONTACT: Sarvy Mahdavi, Planning Office (AIR-2), U.S. Environmental Protection Agency, Region IX, 75 Hawthorne Street, San Francisco, California 94105-3901, telephone (415) 972-3173; fax (415) 947-3579; e-mail address mahdavi.sarvy@epa.gov.

SUPPLEMENTARY INFORMATION: For further information see the direct final rule, of the same day, published in the “Rules and Regulations” section of this Federal Register.

Dated: November 6, 2009.
Jane Diamond,
Acting Regional Administrator, Region IX.

[FR Doc. E9-29890 Filed 12-16-09; 8:45 am]

BILLING CODE 6560-50-P